DEPARTMENT OF STATE

[Public Notice 7094]

Finding of No Significant Impact: San Diego-Tijuana Airport Cross Border Facility

SUMMARY: The Department of State announces a finding of no significant impact on the environment for the San Diego-Tijuana Airport Cross Border Facility international pedestrian bridge project sponsored by Otay-Tijuana Venture, L.L.C. An environmental impact statement will not be prepared.

FOR FURTHER INFORMATION CONTACT: Stewart Tuttle, U.S.-Mexico Border Affairs Coordinator, via e-mail at WHA-BorderAffairs@state.gov; by phone at 202-647-6356; or by mail at Office of Mexican Affairs—Room 3909, Department of State, 2201 C St. NW., Washington, DC 20520. Information about Presidential permits is available on the Internet at http://www.state.gov/p/wha/rt/permit/.

SUPPLEMENTARY INFORMATION: The following is the text of the Finding of No Significant Impact:

Introduction

Under Executive Order 11423, as amended, the Secretary of State is authorized to issue Presidential permits for the construction, connection, operation, and maintenance of facilities, including international bridges, at the borders of the United States if she finds them to be in the national interest. In 2009, Otay-Tijuana Venture, LLC (sponsor) applied for a Presidential permit to construct, operate, and maintain the Cross Border Facility (CBF) project, an international pedestrian bridge across the United States-Mexico border linking a passenger facility in the Otay Mesa section of San Diego, California, with a commercial passenger airport terminal in Tijuana, Baja California, Mexico. The Department has determined that construction of the proposed bridge requires a Presidential permit under Executive Order 11423, as amended, because the proposed bridge would pierce the United States-Mexico border.

The sponsor submitted in support of its application a draft environmental assessment (EA) that Helix Environmental Planning, Inc. prepared under the guidance and supervision of the U.S. Department of State (Department), consistent with the National Environment Policy Act (NEPA). The Department circulated the application and draft EA to the relevant federal, state, and local agencies for their review and received comments from some of those agencies. The sponsor responded to all the comments that agencies submitted by expanding and revising the draft EA. The Department also provided public notice of the draft EA in the Federal Register, 74 FR 68906 (December 29, 2009), and invited public comment for 45 days. In response to that public notice, the Department received only one anonymous, non-substantive comment.

The discussion below and the Department's finding of no significant impact (FONSI) are based upon the draft and final EA that Helix prepared, as supplemented by correspondence containing federal, state, and local agencies' comments and the sponsor's responses to those comments.

Need and Purpose

The San Diego/Tijuana region is the largest urban area along the U.S.—Mexico border, with a combined population of over four million people that is anticipated to grow to over five million by the year 2020. The U.S. and Mexican communities are closely linked and many people cross the border as part of their daily routine. Growth in cross-border trade and travel, combined with increased U.S. security requirements, has resulted in infrastructure-related challenges. As nearly constant congestion at the border indicates, existing infrastructure was not designed to handle current traffic volumes. The existing border crossings have become a bottleneck in the system of interchange between the two countries, restricting the movement of people and goods.

Tijuana Airport is one of four airports serving interior Mexico from the southern California region. Many travelers between Mexico and southern California prefer the Tijuana Airport to the alternatives because it offers more frequent and direct flights to a wider range of destinations in Mexico as well as less expensive tickets. To reach the Tijuana Airport from the United States, passengers must cross the international border in a bus or private vehicle or on foot then taking a taxi, shuttle or bus to reach the airport.

The San Diego-Tijuana CBF would provide U.S. originating or destined airline passengers using the Tijuana Airport the ability to access the airport without having to cross the U.S.—Mexico border via the congested San Ysidro, Otay Mesa, and future Otay Mesa East ports of entry (POE). This would provide airline passengers a quicker, more secure, and more reliable border crossing, freeing up capacity at the POEs, thus reducing the regional and national economic losses associated with border congestion.

The sponsor's proposed international pedestrian bridge would:

• Provide a more convenient, cost-effective, reliable, and secure crossing of the U.S.—Mexico border to access flights originating from and destined for the Tijuana Airport;

• Facilitate cross-border movement of ticketed air travelers using Tijuana Airport to minimize economic losses to the San Diego-Tijuana region caused by long and unpredictable border waits and congestion; and

• Develop facilities that would maintain and not compromise the security and integrity of the existing border.

Proposed Action

The sponsor proposes to build the CBF (including an above-grade pedestrian bridge), on- and off-site site roadway improvements, and parking areas. The CBF would consist of the phased construction of an approximately 75,000 square foot building on the southwestern nine acres of the site, along with a parking lot/garage on an adjacent 10.2-acre portion of the site. At build-out, the CBF would be designed to serve up to approximately 17,225 average daily passengers (or 1,200 peak-hour airline passengers travelling north from Mexico into the United States). The CBF would accommodate U.S. Customs and Border Protection facilities, retail facilities, administrative and security offices, and mechanical and electrical space.

The elevated, enclosed, secure, pedestrian bridge between the CBF and the entrance to the Tijuana Airport would be approximately 525 feet long and 33 feet wide. It would be divided into two corridors that would prevent contact between northbound and southbound pedestrians. Gates at the border would allow closure of the bridge during emergencies. The U.S. portion of the bridge would be 250 feet long and supported by pylons on both sides of the border. The base of the bridge would be a minimum of 19 feet above finished grade and provide for a minimum seven-foot clearance above the existing border fence. This height would accommodate required fire access and enable Border Patrol vehicles and future trucks along the truck route planned along the south boundary of the site to pass underneath the bridge structure.

A 5.4-acre area east of the proposed CBF would initially be used for surface parking on an interim basis. This parcel is identified as a potential site for cross-border cargo operations. The timing, design, and operational details of a cargo facility have not been determined at this time, and, if implemented, would require an amended Presidential Permit and additional NEPA review. The project would be constructed in phases over time and as demand increases.

The No Action Alternative

Under the No Action Alternative, the CBF and related facilities would not be constructed. Air travelers would continue to use the San Ysidro, Otay Mesa, and the future Otay Mesa East POEs to reach Tijuana Airport from the United States. Air travelers and other border crossers would experience increasing travel delays at the POEs as population, economic growth, and security inspections expand. Worsening traffic congestion along the border would lead to increased air pollutant emissions due to vehicles idling in queues at the POEs. The CBF project site would continue to be zoned for industrial development. This alternative would not meet the purpose and need of the proposed project (as identified above) as it would not provide a more convenient and reliable timeframe for crossing the border to access flights, would not facilitate cross-border movement of the 17,225 ticketed air travelers that would use the CBF daily to access the airport and would lead to increased congestion.

Affected Environment

The project is proposed on a privately-owned, 24.6-acre graded, level site located immediately adjacent to the U.S.-Mexico border in San Diego County, California. The property is under the local jurisdiction of the City of San Diego and situated in the community of Otay Mesa, approximately three miles east of the San Ysidro POE and two miles west of the Otay Mesa POE. The Tijuana Airport passenger terminal lies in Mexico, approximately 500 feet south of the project site. In 2007-08, the project site was subdivided and graded for industrial park use under prior approvals from the City of San Diego. Approximately two acres of public right-of-way were dedicated on site, including travel lanes, sidewalks, curbs and gutters, street-side landscaping and cul-de-sacs. Other site improvements installed as part of the previous project consist of utility lines, including storm drain, electrical connections, water and sewer lines, and various interim erosion-control measures, such as sedimentation/detention basins and hydroseed.

Land immediately surrounding the site is designated for industrial use and certain parcels contain industrial buildings and operations. Immediately to the west are developed industrial parcels, some of which contain industrial buildings. On land north of the project site is a drainage easement (including a detention structure) and improvements that receive on-site stormwater runoff and direct it toward the south. Vacant acres directly north of the project site are currently designated for industrial development. This adjacent area was graded and improved in conjunction with the proposed project site under prior local approvals by the City of San Diego. South of and adjacent to the property is a 150-foot wide strip of land reserved for U.S. Border Patrol operations, as well as an area designated for a planned truck route that would lead from the south terminus of Britania Boulevard east toward the existing Otay Mesa POE. The U.S./Mexico border lies to the south of this 150-foot strip of land.

Environmental Consequences

No major adverse environmental effects are expected from the Proposed Action alternative if proper mitigation measures are implemented. The project could affect biological resources, unknown cultural resources, economic growth, air quality/global climate change, noise, traffic and other environmental factors. However, the project must comply with federal law, including any conditions of approval, which could consequently further minimize and/or mitigate any potential adverse effects. The conditions of approval (mitigation measures) are described below.

Findings

1. The EA was prepared consistent with all NEPA procedural requirements, including a 45-day public notice period and coordination with federal, tribal, state, and local governments.

2. The environmental commitments (mitigation measures) are likely to offset any negative impacts identified by the EA.

3. No disputes or controversies have arisen regarding the accuracy or presentation of environmental effects, as documented in the EA, supplemented by comments from relevant agencies and the public.

4. Construction, operation, and maintenance of the CBF and associated pedestrian bridge are not likely to result in cumulative significant impacts.

5. The California State Historic Preservation Officer reviewed the archeologist's cultural resources survey for the project site, concurred that the Area of Potential Effect was properly determined and defined, and, on June 21, 2010, made a Finding of No Historic Properties Affected.

6. Implementation of this action will have no adverse impact on any Indian Trust Assets.

7. Adherence to the environmental commitments described below, as well as the Environmental Assessment and related correspondence, ensures that implementation of the proposed action will not adversely affect biological resources.

8. Implementation of the project will not adversely affect any threatened or endangered species.

9. Construction or operation of the proposed international pedestrian crossing is not likely to result in any disproportionately high or adverse human health or environmental impact on minority populations, low-income populations, or Native American Indian tribes.

10. Implementation of this action will not violate federal, state, or local law.

Mitigation Measures

As described in the Environmental Assessment and subsequent correspondence, the sponsor agrees to take the following actions to ensure that potentially significant impacts do not become significant.

1. Air quality/Global Climate Change: Several measures will be implemented as part of the construction activities and project design to minimize emissions of greenhouse gases. As such, no additional avoidance, minimization, or mitigation measures would be required.

Construction:

• Minimizing equipment and truck idling

• Recycling construction waste and construction debris

Operations:

• Installing basic building insulation to conserve energy

• Locating glazing primarily on the east and north elevations

• Planting trees to shade the structure on the west and south sides

• Utilizing Energy Star appliances and light fixtures/sensors

• Implementing a recycling program for solid waste/trash

• Installing water-efficient landscaping and irrigation timers

• Installing bike racks/parking

• Providing bus, van, and taxi drop-off opportunities

2. Noise: Measures will be implemented to ensure that construction activities would comply with the City of San Diego Noise Ordinance. Regarding operational traffic noise once the facility is operating, Federal Highway Administration guidance sets forth the criteria for determining when an abatement measure is reasonable and feasible. Feasibility of noise abatement is basically an engineering concern. A minimum 5 dBA reduction in the future noise level must be achieved for an abatement measure to be considered feasible. Other considerations include topography, access requirements, other noise sources and safety considerations. The reasonableness determination is basically a cost-benefit analysis. Factors used in determining whether a proposed noise abatement measure is reasonable include: residents' acceptance, the absolute noise level, construction noise versus existing noise, environmental impacts of abatement, public and local agencies input, newly constructed development versus development pre-dating 1978, and the cost per benefited residence. The above factors will be considered in developing potential noise abatement measures for the residential property along Siempre Viva Road that would be affected by traffic noise due to the Proposed Action.

3. Water Quality: Implementation of the Proposed Action would require conformance with applicable regulatory requirements, including National Pollutant Discharge and Elimination System (NPDES), Clean Water Act, and associated City standards for compliance. No additional avoidance, minimization, or mitigation measures would be required.

4. Public services and utilities: The applicant shall prepare and implement a waste management plan that includes the following elements for grading, construction, and occupancy phases of the project as applicable:

• Tons of waste anticipated to be generated

• Material type of waste to be generated

• Source separation techniques for waste generated

• How materials will be reused on site

• Name and location of recycling, reuse or landfill facilities where waste will be taken if not reused on site

• A “buy recycled” program

• How the project will aim to reduce the generation of construction/demolition debris

• A plan of how waste reduction/recycling goals will be communicated to subcontractors

• A timeline for each of the phases of the project

The plan shall strive for a goal of 50 percent waste reduction and shall include specific performance measures to be assessed upon the completion of the project to measure success in achieving waste minimization goals.

5. Cultural resources: Avoidance, minimization, and mitigation measures related to unknown archaeological resources for the Proposed Action would involve preparing and implementing an Archaeological Resources Monitoring Plan. The Monitoring Plan would likely include the following types of measures in accordance with standard construction practices in southern California, with detailed requirements to be determined during the plan preparation and approval process:

• A Qualified Archaeologist shall contract with a Native American monitor to be involved with the grading monitoring program;

• The Qualified Archaeologist and Native American monitor shall attend the pre-grading meeting with the contractors to explain and coordinate the requirements of the monitoring program;

• During the original cutting of previously undisturbed deposits, the archaeological monitor(s) and Native American monitor(s) shall be onsite full time to perform full-time monitoring. Inspections will vary based on the rate of excavation, the materials excavated, and the presence and abundance of artifacts and features. The frequency and location of inspections will be determined by the Qualified Archaeologist in consultation with the Native American monitor.

• Monitoring of cutting of previously disturbed deposits will be determined by the Principal Investigator.

• In the event that previously unidentified potentially significant cultural resources are discovered, the archaeological monitor(s) shall have the authority to divert or temporarily halt ground disturbance operations in the area of discovery to allow evaluation of potentially significant cultural resources. For significant cultural resources, a Research Design and Data Recovery Program to mitigate impacts shall be prepared by the Principal Investigator and then carried out using professional archaeological methods. Before construction activities are allowed to resume in the affected area, the artifacts shall be recovered and features recorded using professional archaeological methods. The Principal Investigator shall determine the amount of material to be recovered for an adequate artifact sample for analysis.

• If any human bones are discovered, the Principal Investigator shall contact the County Coroner. In the event that the remains are determined to be of Native America origin, the Most Likely Descendant (MLD), as identified by the Native American Heritage Commission, shall be contacted by the Principal Investigator in order to determine proper treatment and disposition of the remains.

• In the event that previously unidentified cultural resources are discovered, all cultural material collected during the grading monitoring program shall be processed and curated at a San Diego facility that meets federal standards per 36 CFR part 79 and, therefore, would be professionally curated and made available to other archaeologists/researchers for further study. The collections and associated records shall be transferred, including title, to an appropriate curation facility within San Diego County, to be accompanied by payment of the fees necessary for permanent curation. Evidence shall be in the form of a letter from the curation facility identifying that archaeological materials have been received and that all fees have been paid.

6. Traffic: Because the Proposed Action is part of the City of San Diego's Otay Mesa Community Plan, the project sponsor would be responsible for participating in the Facilities Benefit Assessment (FBA) and Public Facilities Financing Plan (PFFP) to fund the cost of the community-wide road and intersection improvements. All intersections and roadways planned in the Otay Mesa Community Plan area are forecast to operate at acceptable level of service in the future. The City is in the process of updating the Community Plan.

Determination

Consistent with NEPA (42 U.S.C. 4321 et seq.), the regulations of the Council on Environmental Quality (40 CFR 1500-1508), and the Department's implementing regulations (22 CFR Part 161, and in particular 22 CFR 161.7(c)), I find that issuance of a Presidential permit authorizing the construction, connection, operation, and maintenance of the Cross Border Facility, including an international pedestrian bridge, would not have a significant impact on the quality of the human environment. No Environmental Impact Statement will be prepared. A complete analysis of environmental impacts is contained within the EA, as supplemented by subsequent correspondence.

Recommended

Elizabeth Orlando, NEPA Coordinator, Office of Environmental Policy, Bureau of Oceans, Environment, and Science.

Approved

Alex Lee, Director, Office of Mexican Affairs, Bureau of Western Hemisphere Affairs.

End text.

Dated: July 19, 2010.
Stewart Tuttle,
U.S.-Mexico Border Affairs Coordinator, Department of State.

[FR Doc. 2010-18118 Filed 7-22-10; 8:45 am]

BILLING CODE 4710-29-P